ENVIRONMENTAL PROTECTION AGENCY

40 CFR Part 70

[PA-T5-AC2001b; FRL-7093-2]

Clean Air Act Full Approval of Operating Permit Program; Allegheny County; PA

AGENCY: Environmental Protection Agency (EPA).

ACTION: Proposed rule.

SUMMARY: EPA proposes to approve a partial operating permit program for Allegheny County, Pennsylvania. This program will allow the Allegheny County Health Department (ACHD), located in the Commonwealth of Pennsylvania, to issue federally enforceable operating permits to all major stationary sources and certain other affected minor sources in its jurisdiction. The ACHD's operating permits program was submitted to EPA by the Commonwealth of Pennsylvania on behalf of Allegheny County. By this same rulemaking, EPA is also withdrawing its previously published notice of proposed rulemaking dated December 6, 1999. In the Final Rules section of this Federal Register, EPA is fully approving the partial operating permit program for Allegheny County, Pennsylvania as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period. Any parties interested in commenting on this action should do so at this time.

DATES: Comments must be received in writing by December 3, 2001.

ADDRESSES: Comments are to be mailed to Makeba Morris, Chief, Permits and Technical Assessment Branch, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103 and the Allegheny County Health Department Bureau of Environmental Quality, Division of Air Quality, 301 39th Street, Pittsburgh, Pennsylvania 15201.

FOR FURTHER INFORMATION CONTACT: Linda Miller, Permits and Technical Assessment Branch at (215) 814-2068 or by e-mail at miller.linda@.epa.gov. Please note that comments on this proposed rule must be submitted, in writing, as indicated in the ADDRESSES section of this document.

SUPPLEMENTARY INFORMATION: For further information, please see the information provided in the direct final action, with the same title, that is located in the “Rules and Regulations” section of this Federal Register publication.

Dated: October 17, 2001.
James W. Newsom,
Acting Regional Administrator, Region III.

[FR Doc. 01-27282 Filed 10-31-01; 8:45 am]

BILLING CODE 6560-50-P